DEPARTMENT OF LABOR

Employment and Training Administration

[TA-W-38,822]

LTV Steel Company, Inc., Cleveland, OH; Notice of Termination of Investigation

Pursuant to section 221 of the Trade Act of 1974, an investigation was initiated on March 12, 2001 in response to a worker petition filed on behalf of workers at LTV Steel Company, Inc., Cleveland, Ohio.

An active certification covering the petitioning group of workers remains in effect (TA-W-38,362). Consequently, further investigation in this case would serve no purpose, and the investigation has been terminated.

Signed in Washington, DC this 21st day of March, 2001.
Linda G. Poole,
Certifying Officer, Division of Trade Adjustment Assistance.

[FR Doc. 01-8337 Filed 4-4-01; 8:45 am]

BILLING CODE 4510-30-M